DEPARTMENT OF AGRICULTURE

Animal and Plant Health Inspection Service

[Docket No. APHIS-2016-0049]

Notice of Availability of a Treatment Evaluation Document; Cold Treatment of Grapefruit From Australia

AGENCY: Animal and Plant Health Inspection Service, USDA.

ACTION: Notice of availability and request for comments.

SUMMARY: We are advising the public that we have determined that it is warranted to amend cold treatment schedule T107-d-3 in the Plant Protection and Quarantine Treatment Manual to extend the applicability of the treatment to grapefruit from Australia. We have prepared a treatment evaluation document that describes the amended treatment schedule and explains why we have determined that it is effective at neutralizing certain target pests. We are making this treatment evaluation document available to the public for review and comment.

DATES: We will consider all comments that we receive on or before November 15, 2016.

ADDRESSES: You may submit comments by either of the following methods:

• Federal eRulemaking Portal: Go to http://www.regulations.gov/#!docketDetail;D=APHIS-2016-0049.

• Postal Mail/Commercial Delivery: Send your comment to Docket No. APHIS-2016-0049, Regulatory Analysis and Development, PPD, APHIS, Station 3A-03.8, 4700 River Road, Unit 118, Riverdale, MD 20737-1238.

Supporting documents and any comments we receive on this docket may be viewed at http://www.regulations.gov/#!docketDetail;D=APHIS-2016-0049 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Dorothy C. Wayson, Senior Regulatory Policy Specialist, Imports, Regulations and Manuals, PPQ, APHIS, 4700 River Road, Unit 133, Riverdale, MD 20737-1231; (301) 851-2036.

SUPPLEMENTARY INFORMATION: The regulations in 7 CFR chapter III are intended, among other things, to prevent the introduction or dissemination of plant pests and noxious weeds into or within the United States. Under the regulations, certain plants, fruits, vegetables, and other articles must be treated before they may be moved into the United States or interstate. The phytosanitary treatments regulations contained in 7 CFR part 305 (referred to below as the regulations) set out standards for treatments required in 7 CFR parts 301, 318, and 319 for fruits, vegetables, and other articles.

In § 305.2, paragraph (b) states that approved treatment schedules are set out in the Plant Protection and Quarantine (PPQ) Treatment Manual.¹ Section 305.3 sets out the processes for adding, revising, or removing treatment schedules in the PPQ Treatment Manual. In that section, paragraph (a) sets out the normal process for adding, revising, or removing treatment schedules.

¹ The PPQ Treatment Manual is available at http://www.aphis.usda.gov/import_export/plants/manuals/index.shtml or by contacting the Animal and Plant Health Inspection Service, Plant Protection and Quarantine, Manuals Unit, 92 Thomas Johnson Drive, Suite 200, Frederick, MD 21702.

Currently, grapefruit is authorized for importation from Australia into the United States if it was produced in fruit fly free areas in Riverina, Riverland, or Sunraysia, or if the fruit has been subjected to cold treatment to mitigate the risks from Mediterranean fruit fly (Medfly, Ceratitis capitata (Wiedemann)) and Queensland fruit fly (Bactrocera tryoni (Froggatt)).

The cold treatment currently used, T107-d, requires fruit to be subject to refrigeration at or below 2.22 °C for up to 22 days with no option to treat at 3 °C. We are proposing to amend the treatment schedule T107-d-3 to add grapefruit to the schedule. With this change, exporters would have the option to have grapefruit cold-treated at up to 3 °C for no more than 14 days to meet U.S. entry requirements.

In March 2011, APHIS approved cold treatment at or below 3 °C for lemons, oranges, tangerines, and tangors from Australia to meet U.S. entry requirements.

PPQ's Center for Plant Health Science and Technology (CPHST) reviewed a research study conducted in New South Wales for Queensland fruit fly in grapefruit.

After the review, CPHST found that during the most tolerant stage testing (small scale), no insects were found alive after 10 days at either 2 °C or 3 °C and that the most tolerant life stage was determined to be the larval stage, first instar. Additionally, in the confirmatory stage testing (large scale), no insects were found alive after 14 days at either 2 °C or 3 °C.

We believe, therefore, that it is appropriate to amend T107-d-3 to add grapefruit from Australia.

The reasons for this change to the treatment manual are described in detail in the treatment evaluation document (TED) we have prepared to support this action. The TED may be viewed on the Regulations.gov Web site or in our reading room (see ADDRESSES above for instructions for accessing Regulations.gov and information on the location and hours of the reading room). You may also request paper copies of the TED by calling or writing to the person listed under FOR FURTHER INFORMATION CONTACT. Please refer to the subject of the TED when requesting copies.

After reviewing the comments we receive, we will announce our decision regarding the revised treatment schedule described in the TED in a subsequent notice, in accordance with paragraph (a)(2) of § 305.3. If we do not receive any comments, or the comments we receive do not change our determination that the proposed changes are effective, we will affirm these changes to the PPQ Treatment Manual and make available a new version of the PPQ Treatment Manual reflecting these changes. If we receive comments that cause us to determine that the changes described in this notice are not appropriate, we will issue another notice informing the public of our determination.

Authority: 7 U.S.C. 7701-7772 and 7781-7786; 21 U.S.C. 136 and 136a; 7 CFR 2.22, 2.80, and 371.3.

Done in Washington, DC, this 12th day of September 2016.
Kevin Shea,
Administrator, Animal and Plant Health Inspection Service.

[FR Doc. 2016-22327 Filed 9-15-16; 8:45 am]

BILLING CODE 3410-34-P